DEPARTMENT OF ENERGY

Federal Energy Regulatory Commission

[Docket No. AD14-18-000]

Joint Technical Conference on New York Markets & Infrastructure; Supplemental Notice of Technical Conference

As announced in the Notice issued on September 17, 2014,¹ the Federal Energy Regulatory Commission (Commission), jointly with the New York Public Service Commission will hold a technical conference on November 5, 2014 from 9:00 a.m. to approximately 4:00 p.m., to discuss issues of mutual interest and concern regarding the installed capacity market and energy infrastructure in New York and review the role of New York's centralized capacity market in attracting investment and ensuring resource adequacy and reliability. The conference will be held in the New York Institute of Technology Auditorium located at 1871 Broadway, between 61st and 62nd Streets, New York, NY 10023. A preliminary agenda for this conference is attached. Conference panelists will be identified in a subsequent notice. This conference is free of charge and open to the public.

¹ Joint Technical Conference on New York Markets & Infrastructure, Docket No. AD14-00018-000 (September 17, 2014).

The technical conference will be transcribed. The conference will also be Webcast. The Webcast will allow persons to listen to the technical conference, but not participate. Further details on the Webcast, including the link, will be provided in a subsequent notice.

Information on the technical conference will be posted on the Web site http://www.ferc.gov/EventCalendar/EventDetails.aspx?ID=7531&CalType=%20&CalendarID=116&Date=11/05/2014&View=Listview, as well as the Calendar of Events on the Commission's Web site, http://www.ferc.gov, prior to the conference.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the technical conference, please contact:

Kathleen Schnorf (Technical Information), Office of Energy Market Regulation, Federal Energy Regulatory Commission, 888 First Street NE., Washington, DC 20426, (202) 502-8547, Kathleen.Schnorf@ferc.gov.

Betty Watson (Technical Information), Office of Energy Policy and Innovation, Federal Energy Regulatory Commission, 888 First Street NE., Washington, DC 20426, (202) 502-8552, Betty.Watson@ferc.gov.

Kate Hoke (Legal Information), Office of General Counsel, Federal Energy Regulatory Commission, 888 First Street NE., Washington, DC 20426, (202) 502-8404, Katheryn.Hoke@ferc.gov.

Sarah McKinley (Logistical Information), Office of External Affairs, Federal Energy Regulatory Commission, 888 First Street NE., Washington, DC 20426, (202) 502-8004, Sarah.McKinley@ferc.gov.

Dated: October 10, 2014.
Kimberly D. Bose,
Secretary.

Joint FERC-NYPSC Technical Conference on New York Markets & Infrastructure

Docket No. AD14-18-000

November 5, 2014

Preliminary Agenda

8:00 a.m.-9:00 a.m. Registration

9:00 a.m.-9:30 a.m. Opening remarks by Commissioners

9:30 a.m.-10:15 a.m. NYISO and Independent Market Monitor presentation

NYISO and the Independent Market Monitor will report on the recent performance of NYISO's capacity market. NYISO will also describe current initiatives it is undertaking, and hurdles it is facing, as it seeks to improve performance of its capacity market to attract adequate investment in resources and infrastructure to efficiently meet New York State's reliability/resource adequacy needs. NYISO will provide information on recent investments made in resources and infrastructure through NYISO's markets and transmission planning efforts, and discuss the implementation of the new capacity zone in the Lower Hudson Valley. NYISO will provide a brief update on preparedness for the upcoming winter. Finally, the Independent Market Monitor will provide its recommendations for improved performance of NYISO's capacity market.

10:15 a.m.-12:15 p.m. Panel One: Assessing the performance of NYISO's capacity market design in attracting investment in resources and infrastructure to meet reliability/resource adequacy needs

This session will discuss the role of NYISO's capacity market in attracting investment in both resources and infrastructure in order to meet New York State's reliability and/or resource adequacy needs. In particular, panelists should discuss the particular capacity market design features that encourage merchant investment in resources and infrastructure. Panelists will be asked to discuss how the capacity market is addressing local and state-wide resource adequacy and reliability issues at just and reasonable rates. Finally, panelists should discuss what changes, if any, should be considered going forward to improve the performance of NYISO's capacity market.

Panelists should be prepared to discuss the following questions:

a. How do particular market design features impact infrastructure investment decisions by merchant entities? How can these market design aspects best address the interests of both buyers and sellers? How do buyer-side mitigation measures affect investment? Should the NYISO capacity market provide a longer revenue certainty period (e.g., 3, 5, or 10 years)? Does the existing NYISO capacity market appropriately incent investment as compared with three-year forward market designs in other capacity markets (e.g., PJM, ISO-NE)? Are long-term bilateral contracts a feasible alternative procurement mechanism for New York (e.g., California model)?

b. Are changes to NYISO's capacity market necessary to better ensure resource performance during peak demand conditions (summer or winter)?

c. Why are Reliability Support Services (RSS) needed? What is the effect of RSS agreements on the ability of the NYISO capacity market to efficiently meet the intended goal of incentivizing investment in resources and infrastructure? Are there other market and infrastructure impacts of the use of RSS agreements?

d. How does NYISO coordinate its planning processes and its capacity market? Are there possible improvements in the coordination efforts?

e. How is the planning of transmission, generation and other resources coordinated between retail and wholesale markets?

12:15 p.m.-1:00 p.m. Lunch Break

1:00 p.m.-3:00 p.m. Panel Two: Role of NYISO's capacity market in attracting investment in resources and infrastructure needed to meet public policy objectives

This session will focus on whether, and to what extent, NYISO's capacity market should play a role in attracting investment in resources and infrastructure to meet public policy objectives. There may be a range of public policy objectives, including increasing renewable resources; maintaining or increasing clean energy resources to meet emission reduction goals; increasing distributed resources; increasing energy efficiency and demand response resources; maintaining fuel diversity; maintaining price stability for customers (wholesale, retail, commercial and industrial); economic development; and spurring investment in resources and infrastructure (both power lines and gas pipelines). Panelists should address whether these objectives are appropriately addressed through the NYISO capacity market. If so, this session will also include a discussion of whether certain aspects of the current NYISO capacity market design—in particular the capacity market product definition—need to change to achieve the requisite public policy objectives. The discussion may also explore whether some of these objectives are complementary or in conflict with other objectives.

Panelists should be prepared to discuss the following questions:

a. Are changes to the capacity market needed to account for fuel availability/firmness of fuel, or to differentiate the value of capacity resources based on the “firmness” of fuel arrangements?

b. Should the capacity market specifically account for or otherwise value resources that are intended to meet current or future public policy goals (e.g., fuel diversity or emission reduction goals)? How should there be modifications to the buyer-side mitigation rules to help achieve those goals?

c. What price signals and tariff changes may be needed to achieve the objectives under discussion in the PSC's Reforming the Energy Vision (REV) proceeding?

d. Are there market, environmental, or other barriers to entry in certain locations or for certain kinds of resources (e.g., repowering assets in New York City)?

e. Are there broader market design features outside of the capacity market (e.g., scarcity and shortage pricing) that could be adjusted to account for public policy objectives (e.g., increasing renewables)?

3:00 p.m.-3:15 p.m. Break

3:15 p.m.-4:00 p.m. Roundtable discussion among Commissioners/Wrap up

Discussion of possible paths forward for identified issues and solutions.

[FR Doc. 2014-25323 Filed 10-23-14; 8:45 am]

BILLING CODE 6717-01-P